DEPARTMENT OF ENERGY

Special Environmental Analysis for Emergency Actions Taken in Response to the Cerro Grande Fire at the Los Alamos National Laboratory, Los Alamos, NM

AGENCY: National Nuclear Security Administration, DOE.

ACTION: Notice of availability.

SUMMARY: The Department of Energy (DOE) announces the availability of the Special Environmental Analysis for Actions Taken in Response to the Cerro Grande Fire at the Los Alamos National Laboratory, Los Alamos, New Mexico. The special environmental analysis (SEA) describes the impacts related to the emergency fire suppression, soil erosion and flood control actions by DOE starting in early May 2000 at the time of the Cerro Grande Fire and extending through November 2000. DOE prepared the SEA in compliance with the Council on Environmental Quality National Environmental Policy Act (NEPA) regulations regarding emergency actions. The SEA will be forwarded in October 2000 to the Los Alamos National Laboratory (LANL) to be used for implementation of the mitigation measures described in the document.

ADDRESSES: For copies of the SEA, further information regarding the document or activities described, or to provide comments, contact: Elizabeth Withers, NEPA Compliance Officer, U.S. Department of Energy, Los Alamos Area Office, 528 35th Street, Los Alamos, NM 87544, phone (505) 667-8690, fax (505) 665-4872. The SEA will be available under the DOE NEPA Analyses module of the DOE NEPA web site at http://tis.eh.doe.gov/nepa/.

For more information regarding activities related to the Cerro Grande Fire and the LANL Emergency Rehabilitation Team, including relevant phone numbers, visit the LANL web site at www.lanl.gov.

FOR FURTHER INFORMATION CONTACT: For general information on the DOE NEPA process, please contact Ms. Carol M. Borgstrom, EH-42, Director, Office of NEPA Policy and Compliance, U.S. Department of Energy, 1000 Independence Ave., SW., Washington, DC 20585. Ms. Borgstrom may be contacted by calling (202) 586-4600 or by leaving a message at (800) 472-2756.

SUPPLEMENTARY INFORMATION: Pursuant to the Council on Environmental Quality (Council) regulation for implementing NEPA under emergency circumstances (40 CFR 1506.11) and DOE's corresponding NEPA implementing regulation (10 CFR 1021.343), DOE consulted with the Council regarding alternative NEPA compliance arrangements for emergency actions having potentially significant environmental impacts. As a result of the consultations, DOE prepared this SEA of impacts related to the emergency fire suppression, soil erosion and flood control actions by DOE starting in early May 2000 at the time of the Cerro Grande Fire and extending through November 2000. A notice of emergency DOE actions was published in the Federal Register on June 21, 2000, which included a brief description of contemplated actions, and their potential impacts, as both were understood at that time. The Federal Register notice also served as the Public Notice and Statement of Findings regarding DOE's intention to take action involving construction and other actions within floodplains and wetlands pursuant to DOE's regulations for Compliance with Floodplain/Wetlands Environmental Review Requirements (10 CFR Part 1022). DOE announced the preparation of the SEA at regular public and stakeholder meetings regarding the status of DOE's emergency actions being taken. These status meetings were held weekly in Los Alamos beginning on June 30 and extending through August 11, 2000. The meetings are now being held on a monthly basis, with the first monthly meeting held on September 15, 2000.

DOE is providing copies of the SEA to LANL stakeholders, including tribes and members of the public who have identified themselves as interested parties. DOE has also made the SEA publicly available through the Internet and by placing it in DOE and LANL reading rooms and local public libraries in: Los Alamos, Santa Fe, Española, and Albuquerque, New Mexico.

The actions covered in this SEA encompass a wide range of activities, including felling trees, igniting back fires, applying fire-retardants, removing and stabilizing contaminants, and controlling erosion and storm water. In general, DOE actions had localized or limited individual adverse impacts and were designed to protect life and property from the effects of the fire and subsequent soil erosion and surface water runoff caused by seasonally heavy rainfalls. In this respect, the actions had a significant positive cumulative impact at LANL and within the regions of influence for most resources. However, individual projects had some adverse effects, such as loss of habitat for wildlife, primarily resulting from soil and vegetation removal. The SEA does not include an analysis of the impacts that resulted from the Cerro Grande Fire itself. The fire impacts at LANL will be captured in other reports, and specifically, the Annual SWEIS Yearbook will detail the cumulative impacts of the wildfire.

Subsequent Document Preparation

Results of monitoring the mitigation effectiveness and the environmental effects of the emergency actions will be made available to the public through an annual mitigation tracking report. The first annual tracking report will be issued in January 2002 for the Fiscal Year beginning October 1, 2000, and ending on September 30, 2001. DOE will consider any comments received on the SEA and the subsequent documents in pursuing adaptive mitigation measures. Comments should be sent to Ms. Withers as indicated in the Addresses section above.

Issued in Washington, DC, on October 5, 2000.
Henry Garson,
NEPA Compliance Officer, Defense Programs, National Nuclear Security Administration.

[FR Doc. 00-26332 Filed 10-12-00; 8:45 am]

BILLING CODE 6450-01-P